ENVIRONMENTAL PROTECTION AGENCY

[EPA-HQ-OECA-2007-0047; FRL-8496-3]

Agency Information Collection Activities; Submission to OMB for Review and Approval; Comment Request; NSPS for Onshore Natural Gas Processing Plants (Renewal); EPA ICR Number 1086.08, OMB Control Number 2060-0120

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before December 17, 2007.

ADDRESSES: Submit your comments, referencing docket ID number EPA-HQ-OECA-2007-0047, to (1) EPA online using www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460; and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On March 9, 2007 (72 FR 10735), EPA sought comments on this ICR pursuant to 5 CFR 1320.8(d). EPA received no comments. Any additional comments on this ICR should be submitted to EPA and OMB within 30 days of this notice.

EPA has established a public docket for this ICR under docket ID number EPA-HQ-OECA-2007-0047, which is available for public viewing online at http://www.regulations.gov, or in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, Confidential Business Information (CBI), or other information whose public disclosure is restricted by statute. For further information about the electronic docket, go to www.regulations.gov.

Title: NSPS for Onshore Natural Gas Processing Plants (Renewal).

ICR Numbers: EPA ICR Number 1086.08, OMB Control Number 2060-0120.

ICR Status: This ICR is scheduled to expire on December 31, 2007. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The New Source Performance Standards (NSPS) for Equipment Leaks of Volatile Organic Compounds (VOC) from Onshore Natural Gas Processing Plants, published at 40 CFR part 60, subpart KKK, were proposed on January 20, 1984, and promulgated on June 24, 1985. These standards apply to the following affected facilities located at onshore natural gas processing plants: compressors in VOC service or in wet gas service, and the group of all equipment (except compressors) within a process unit. Affected facilities commenced construction, modification or reconstruction after the date of proposal.

The NSPS for Onshore Natural Gas Processing: SO2 Emissions, published at 40 CFR part 60, subpart LLL, were proposed on January 20, 1984 and promulgated on October 1, 1985. These standards apply to the following affected facilities located at onshore natural gas processing plants: each sweetening unit, and each sweetening unit followed by a sulfur recovery unit. Affected facilities commenced construction, modification or reconstruction after the date of proposal.

In general, all NSPS standards require initial notifications, performance tests, and periodic reports. Owners or operators are also required to maintain records of the occurrence and duration of any startup, shutdown, or malfunction in the operation of an affected facility, or any period during which the monitoring system is inoperative. These notifications, reports, and records are essential in determining compliance and are required of all sources subject to NSPS. Owners or operators of affected facilities must submit notifications of any construction/reconstruction, modification, actual date of startup, demonstration of a continuous monitoring system, and date of a performance test. Note that the use of control devices and continuous monitoring is not required by subpart KKK, but is an option for compliance.

Owners or operators of affected facilities must submit semiannual reports and performance test results. Note that subpart LLL requires semiannual reporting of excess emissions. Owners or operators subject to subpart KKK must keep various records, including records of leak detection and repair, records of compliance tests, and records of pumps and valves that are exempted from certain monitoring requirements. Owners or operators subject to subpart LLL must keep records of various calculations and measurements.

Any owner or operator subject to the provisions of this part shall maintain a file of these measurements, and retain the file for at least two years following the date of such measurements, maintenance reports, and records. All reports are sent to the delegated state or local authority. In the event that there is no such delegated authority, the reports are sent directly to the EPA regional office. This information is being collected to assure compliance with 40 CFR part 60, subparts KKK and LLL, as authorized in section 112 and 114(a) of the Clean Air Act. The required information consists of emissions data and other information that have been determined to be private.

An Agency may not conduct or sponsor, and a person is not required to respond to, a collection of information unless it displays a currently valid OMB Control Number. The OMB Control Number for EPA's regulations are listed in 40 CFR part 9 and 48 CFR chapter 15, and are identified on the form and/or instrument, if applicable.

Burden Statement: The annual public reporting and recordkeeping burden for this collection of information is estimated to average 91 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Onshore natural gas processing plants.

Estimated Number of Respondents: 563.

Frequency of Response: On occasion, initially, and semiannually.

Estimated Total Annual Hour Burden: 149,180.

Estimated Total Annual Cost: $9,857,058, which includes $219,000 annualized Capital Startup costs, $119,700 annualized Operating and Maintenance costs (O&M) and $9,518,358 annualized Labor costs.

Changes in the Estimates: There is no significant change in this ICR compared to the previous ICR. This is due to two considerations. First, the regulations have not changed over the past three years and are not anticipated to change over the next three years. Secondly, the growth rate for the industry is very low, negative or non-existent.

There is, however, a small adjustment in the labor hour estimate. The previous ICR shows a total of 149,174 annual hours. This renewal ICR shows a total of 149,180 annual hours. The small labor hour increase of six hours was caused by a mathematical error in the previous ICR.

Dated: November 8, 2007.
Sara Hisel-McCoy,
Director, Collection Strategies Division.

[FR Doc. E7-22453 Filed 11-15-07; 8:45 am]

BILLING CODE 6560-50-P